DEPARTMENT OF THE INTERIOR

Fish and Wildlife Service

[FWS-R1-ES-2010-N098; 80221-1112-0000-F2]

Proposed Issuance of an Incidental Take Permit to Energy Northwest for Construction and Operation of the Radar Ridge Wind Project LLC

AGENCY: Fish and Wildlife Service, Interior.

ACTION: Notice of intent to conduct 30-day public scoping period and prepare an Environmental Impact Statement (EIS).

SUMMARY: We, the U.S. Fish and Wildlife Service (USFWS), intend to prepare an Environmental Impact Statement (EIS), under the National Environmental Policy Act (NEPA) regarding an application from Radar Ridge LLC for an incidental take permit for take of the threatened marbled murrelet (Brachyramphus marmoratus) in accordance with the Endangered Species Act of 1973, as amended (Act). Radar Ridge LLC is proposing to construct and operate the Radar Ridge Wind Project near Naselle, Washington. The project would consist of up to 32 wind turbines with a generating capacity of 82 megawatts (MW) of electricity. Power generated by the wind turbines would be transmitted to the existing Bonneville Power Administration substation at Naselle, Washington. We are furnishing this notice to announce the initiation of a 30-day public scoping period, during which we invite other agencies, and the public, to provide comments on the range of alternatives and scope of issues to be included in the EIS.

DATES: Comments: To ensure consideration, please submit your comments by June 28, 2010.

Public Meeting Dates and Locations

1. Tuesday, June 15, 2010, 7-9 p.m. at the USFWS office at 510 Desmond Dr., Lacey, WA 98503.

2. Wednesday, June 16, 2010, 7-9 p.m. at Naselle High School, 793 State Route 4, Naselle, WA 98638.

ADDRESSES: You may submit comments by one of the following methods:

1. U.S. mail or hand delivery to: Mr. Mark Ostwald, U.S. Fish and Wildlife Service, Washington Fish and Wildlife Office, 510 Desmond Drive, SE., Suite 102, Lacey, WA 98503-1263; or

2. E-mail to: radarridgewindproject@fws.gov.

FOR FURTHER INFORMATION CONTACT: Mr. Mark Ostwald, at (360) 753-9564, e-mail at Mark_Ostwald@fws.gov, or on the Internet at http://www.fws.gov/wafwo.

SUPPLEMENTARY INFORMATION: In accordance with section 10(a)(2)(A) of the Endangered Species Act of 1973, as amended (Act; 16 U.S.C. 1531 et seq.), Radar Ridge LLC is preparing a habitat conservation plan in support of an application for a permit from the USFWS to incidentally take the marbled murrelet in conjunction with the construction, operation, maintenance, and decommissioning of the Radar Ridge Wind Project. The marbled murrelet is listed as threatened under the Act. The USFWS has determined that an EIS should be prepared under NEPA as part of the USFWS consideration of the permit application. The USFWS will be the lead agency (40 CFR 1501.5) for preparation of the EIS. The Bonneville Power Administration (BPA) is a cooperating agency (40 CFR 1501.6) in the NEPA process. The EIS will analyze the impacts of both agencies' proposed actions: USFWS's issuance of an incidental take permit, and BPA's approval of an interconnection to its transmission facilities.

Background

Radar Ridge LLC is requesting an incidental take permit for a period of 40 years to authorize incidental take of marbled murrelets in conjunction with the construction, operation, maintenance, and decommissioning of the Radar Ridge Wind Project.

The project is proposed in a rural, forested area approximately 10 miles north of the Columbia River and 12 miles east of the Pacific Ocean. The small community of Naselle, Washington, is approximately 3 miles south of the project. Radar Ridge ranges in elevation from approximately less than 1,000 feet to 1,900 feet. Some of the ridge has gravel roads that are used for logging or assessing the existing communication facility at the south end of the ridge. The ridge also contains an operating gravel quarry used by the Washington State Department of Natural Resources (WDNR) as a source of gravel for its roads. The forests on the ridge within the project area are generally second growth conifer forests, mostly younger than 60 years old.

Construction for the project will require forest clearing, upgrade of existing roads, construction of new roads, a new project substation on the ridge, and a new overhead transmission line (adjacent to an existing BPA power-line) from the project substation to an existing BPA substation in Naselle, Washington. Within the project area, up to 32 wind turbines would be located in a single row along the approximately 4.35-mile ridge-top. The project footprint is approximately 500 feet wide by 4.35 miles long on the top of the ridge. The wind turbines will be set on towers up to 265 feet tall with a possible rotor diameter ranging from 254 to 333 feet. Using the largest diameter rotor, the maximum total wind turbine height from tower base to blade tip would be 430 feet. The project might also include one permanent freestanding (no guy wires) meteorological tower with a height equivalent to the wind turbine tower/hub height.

The Radar Ridge Wind Project is planned on forest lands owned and managed by the WDNR in Pacific County, southwest Washington. These lands are currently included in the 1997 WDNR Forest Practices Habitat Conservation Plan (HCP), which covers 1.8 million acres of forest land. The marbled murrelet, northern spotted owl (Strix occidentalis), and several other listed species are covered by the WDNR HCP. The WDNR HCP provides the WDNR with incidental take coverage for forest management activities and some non-timber activities. Wind energy is not a covered activity of the WDNR HCP. Consequently, Radar Ridge LLC is developing a separate HCP to address incidental take of marbled murrelets that could result from the Radar Ridge Wind Project.

Radar Ridge Wind Project LLC, a wholly owned subsidiary of Energy Northwest, has received a 40-year conditional lease for the project from the WDNR that covers approximately 3,360 acres. It is the WDNR's opinion that it has the unilateral right to terminate the lease if, in the State's opinion, the proposed activity poses too large a risk and could jeopardize its continued operation of the Forest Practices HCP, Incidental Take Permit and Implementation Agreement with the USFWS and the National Marine Fisheries Service.

Radar Ridge Wind Project LLC, a wholly owned subsidiary of Energy Northwest, has received a 40-year conditional lease for the project from the WDNR that covers approximately 3,360 acres. It is the WDNR's opinion that it has the unilateral right to terminate the lease if, in the State's opinion, the proposed activity poses too large a risk and could jeopardize its continued operation of the Forest Practices HCP, Incidental Take Permit and Implementation Agreement with the USFWS and the National Marine Fisheries Service.

The WDNR Forest Practices HCP and Incidental Take Permit provides incidental take coverage for the marbled murrelet for the WDNR. When the WDNR HCP was written in 1997, there was not sufficient information available on the conservation needs of the marbled murrelet on WDNR lands. For that reason the WDNR developed an interim HCP strategy for this species. The interim conservation strategy required the DNR to do a habitat relationship study and locate marbled murrelet occupied sites on their lands (HCP, page IV. 39). Once the necessary steps of the interim strategy were completed, the WDNR would transition to a long-term marbled murrelet conservation strategy (HCP, page IV. 40).

The WDNR HCP states that the long-term conservation strategy would “result in a comprehensive, detailed landscape-level plan that would help meet the recovery objectives of the USFWS, contribute to the conservation efforts of the President's Northwest Forest Plan, and make a significant contribution to maintaining and protecting marbled murrelet populations in western Washington over the life of the HCP.” The WDNR has completed the interim strategy for southwest Washington and the Olympic Peninsula and is now required to develop a long-term conservation strategy to be consistent with their HCP.

To help develop a scientifically credible long-term marbled murrelet conservation strategy, the WDNR convened a science team to develop murrelet conservation recommendations for WDNR lands in southwest Washington and the Olympic Peninsula. This team published their findings in 2008 as a report entitled Recommendations and Supporting Analysis of Conservation Opportunities for the Marbled Murrelet Long-Term Conservation Strategy. This report rated the 13,748-acre Nemah Block as the most important WDNR landscape in southwest Washington for marbled murrelet conservation. The proposed wind project would be located on Radar Ridge, which is within the Nemah block. To date, the WDNR has not completed its final long-term conservation strategy for the marbled murrelet.

To our knowledge, there is no forest on the ridge-top within the project footprint that resembles mature or old growth forest that might provide nesting habitat for the marbled murrelet. However, through the use of radar surveys, Radar Ridge LLC has documented the presence of marbled murrelets flying over the ridge, primarily above proposed wind turbine heights, both during the summer breeding season and during the winter. There are 89 murrelet-occupied nest sites within 30 miles of the project area and the northwest end of the project is within approximately 1,800 feet of the South Nemah Natural Resources Conservation Area, the highest known marbled murrelet nesting use site in Washington. While the project footprint does not appear to have any suitable nesting habitat for the species, marbled murrelets have been documented flying over the project location, likely commuting to and from nest sites. Some of these birds would be at risk of collision with the wind project.

Environmental Impact Statement

We will conduct an environmental review of the permit application, including the HCP. We will prepare an EIS in accordance with NEPA requirements, as amended (40 U.S.C. 4321 et seq.), and NEPA implementing regulations (40 CFR 1500-1508), and in accordance with other Federal laws and regulations, and the policies and procedures of the USFWS for compliance with those regulations.

We request data, comments, new information, or suggestions from the public, other concerned governmental agencies, the scientific community, Tribes, industry, or any other interested party on this notice. We will consider all comments we receive in complying with the requirements of NEPA and in the development of the HCP and ITP. We particularly seek comments concerning:

(1) The direct, indirect, and cumulative effects that implementation of any reasonable alternative could have on endangered and threatened species;

(2) Other reasonable alternatives, and their associated effects;

(3) Measures that would minimize and mitigate potentially adverse effects of the proposed project;

(4) Baseline environmental conditions in and adjacent to the project;

(5) Biological information regarding the marbled murrelet;

(6) Monitoring and adaptive management that might be relevant to the project;

(7) Other plans or projects that might be relevant to this project;

(8) Pertinent information concerning wind energy and wildlife response; and

(9) Pertinent information concerning wind energy and its relationship to the human environment.

The EIS will analyze the effects that the various alternatives would have on the marbled murrelet as well as all other aspects of the human environment, including but not limited to geology and soils, land use, air quality, water quality, wetlands, socioeconomics, recreation, cultural resources, noise, visual resources, climate change, and cumulative impacts from the proposed action. A notice of availability is expected to be published in the Federal Register in early 2011 and the DEIS will be circulated for public review and comment. The USFWS will consider and respond to comments received on the draft EIS in the final EIS. The final EIS is expected to be published sometime later in 2011. The USFWS and BPA will each document their decision in a Record of Decision following completion of the final EIS.

Reasonable Accommodation

Persons needing reasonable accommodations to attend and participate in public meetings should contact Mark Ostwald (see FOR FURTHER INFORMATION CONTACT) as soon as possible. To allow sufficient time to process requests, please call no later than one week before the public meeting. Information regarding this proposed action is available in alternative formats upon request.

Dated: May 10, 2010.
Carolyn A. Bohan,
Deputy Regional Director, U.S. Fish and Wildlife Service, Region 1, Portland, Oregon.

[FR Doc. 2010-12906 Filed 5-27-10; 8:45 am]

BILLING CODE 4310-55-P